DEPARTMENT OF AGRICULTURE

Foreign Agricultural Service

WTO Agricultural Safeguard Trigger Levels

AGENCY: Foreign Agricultural Service, USDA.

ACTION: Notice of product coverage and trigger levels for safeguard measures provided for in the World Trade Organization (WTO) Agreement on Agriculture.

SUMMARY: This notice lists the updated quantity trigger levels for products, which may be subject to additional import duties under the safeguard provisions of the WTO Agreement on Agriculture. It also includes the relevant period applicable for trigger levels on each of those products.

DATES: Effective Date: June 22, 2004.

FOR FURTHER INFORMATION CONTACT: Charles R. Bertsch, Multilateral Trade Negotiations Division, Foreign Agricultural Service, room 5524—South Building, U.S. Department of Agriculture, Washington, DC 20250-1022, telephone at (202) 720-6278, or e-mail charles.bertsch@usda.gov.

SUPPLEMENTARY INFORMATION: Article 5 of the WTO Agreement on Agriculture provides that additional import duties may be imposed on imports of products subject to tariffication as a result of the Uruguay Round if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, Quantity Based Safeguard Trigger dated December 23, 1994. The Secretary of Agriculture further delegated the duty to the Administrator of the Foreign Agricultural Service (7 CFR 2.43 (a)(2)). The Annex to this notice contains the updated quantity trigger levels.

Additional information on the products subject to safeguards and the additional duties which may apply can be found in subchapter IV of Chapter 99 of the Harmonized Tariff Schedule of the United States and in the Secretary of Agriculture's Notice of Safeguard Action, published in the Federal Register at 60 FR 427, January 4, 1995.

Notice: As provided in section 405 of the Uruguay Round Agreements Act, consistent with Article 5 of the Agreement on Agriculture, the safeguard quantity trigger levels previously notified are superceded by the levels indicated in the Annex to this notice.

Issued at Washington, DC, this 14th day of June, 2004.
A. Ellen Terpstra,
Administrator, Foreign Agricultural Service, Annex.

The definitions of these products were provided in the Notice of Safeguard Action published in the Federal Register, at 60 FR 427, January 4, 1995.

Quantity-Based Safeguard Trigger
Product | Trigger level | Period
Beef | 1,193,903 mt | January 1, 2004 to December 31, 2004.
Mutton | 20,668 mt | January 1, 2004 to December 31, 2004.
Cream | 5,839,930 liters | January 1, 2004 to December 31, 2004.
Evaporated or Condensed Milk | 7,019,525 kilograms | January 1, 2004 to December 31, 2004.
Nonfat Dry Milk | 3,677,993 kilograms | January 1, 2004 to December 31, 2004.
Dried Whole Milk | 4,116,442 kilograms | January 1, 2004. to December 31, 2004
Dried Cream | 40,845 kilograms | January 1, 2004. to December 31, 2004
Dried Whey/Buttermilk | 90,263 kilograms | January 1, 2004 to December 31, 2004.
Butter | 13,754,490 kilograms | January 1, 2004 to December 31, 2004.
Butter Oil and Butter Substitutes | 10,516,706 kilograms | January 1, 2004 to December 31, 2004.
Dairy Mixtures | 5,131,250 kilograms | January 1, 2004 to December 31, 2004.
Blue Cheese | 4,561,399 kilograms | January 1, 2004 to December 31, 2004.
Cheddar Cheese | 16,309,700 kilograms | January 1, 2004 to December 31, 2004.
American-Type Cheese | 25,288,825 kilograms | January 1, 2004 to December 31, 2004.
Edam/Gouda Cheese | 8,242,960 kilograms | January 1, 2004 to December 31, 2004.
Italian-Type Cheese | 20,435,015 kilograms | January 1, 2004 to December 31, 2004.
Swiss Cheese with Eye Formation | 35,995,675 kilograms | January 1, 2004 to December 31, 2004.
Gruyere Process Cheese | 8,309,266 kilograms | January 1, 2004 to December 31, 2004.
Lowfat Cheese | 3,598,612 kilograms | January 1, 2004 to December 31, 2004.
NSPF Cheese | 59,837,314 kilograms | January 1, 2004 to December 31, 2004.
Peanuts | 54,853 mt | April 1, 2004 to March 31, 2005.
Peanut Butter/Paste | 20,512 mt | January 1, 2004 to December 31, 2004.
Raw Cane Sugar | 1,267,407 mt 1,297,851 mt | October 1, 2003 to September 30, 2004. October 1, 2004 to September 30, 2005.
Refined Sugar and Syrups | 95,196 mt 95,785 mt | October 1, 2003 to September 30, 2004. October 1, 2004 to September 30, 2005.
Blended Syrups | 5 mt 8 mt | October 1, 2003 to September 30, 2004. October 1, 2004 to September 30, 2005.
Articles Over 65% Sugar | 23 mt 23 mt | October 1, 2003 to September 30, 2004. October 1, 2004 to September 30, 2005.
Articles Over 10% Sugar | 80,886 mt 80,886 mt | October 1, 2003 to September 30, 2004. October 1, 2004 to September 30, 2005.
Sweetened Cocoa Powder | 841 mt 531 mt | October 1, 2003 to September 30, 2004. October 1, 2004 to September 30, 2005.
Chocolate Crumb | 25,555,455 kilograms | January 1, 2004 to December 31, 2005.
Lowfat Chocolate Crumb | 460,840 kilograms | January 1, 2004 to December 31, 2004.
Infant Formula Containing Oligosaccharides | 106,234 kilograms | January 1, 2004 to December 31, 2004.
Mixes and Doughs | 5,375 mt 6,757 mt | October 1, 2003 to September 30, 2004. October 1, 2004 to September 30, 2005.
Mixed Condiments and Seasonings | 560 mt 402 mt | October 1, 2003 to September 30, 2004. October 1, 2004 to September 30, 2005.
Ice Cream | 4,404,744 liters | January 1, 2004 to December 31, 2004.
Animal Feed Containing Milk | 28,962 kilograms | January 1, 2004 to December 31, 2004.
Short Staple Cotton | 233,399 kilograms 94,717 kilograms | September 20, 2003 to September 19, 2004. September 20, 2004 to September 19, 2005.
Harsh or Rough Cotton | 0 mt 0 mt | August 1, 2003 to July 31, 2004. August 1, 2004 to July 31, 2005.
Medium Staple Cotton | 483,797 kilograms 485,971 kilograms | August 1, 2003 to July 31, 2004. August 1, 2004 to July 31, 2005.
Extra Long Staple Cotton | 7,231,773 kilograms 8,982,620 kilograms | August 1, 2003 to July 31, 2004. August 1, 2004 to July 31, 2005.
Cotton Waste | 0 kilograms 0 kilograms | September 20, 2003 to September 19, 2004. September 20, 2004 to September 19, 2005.
Cotton, Processed, Not Spun | 2,083 kilograms 5,343 kilograms | September 11, 2003 to September 10, 2004. September 11, 2004 to September 10, 2005.

[FR Doc. 04-14064 Filed 6-21-04; 8:45 am]

BILLING CODE 3410-10-P